DEPARTMENT OF STATE

Authority To Accept Volunteer Services From Students

By virtue of the authority vested in the Secretary of State by the laws of the United States, including 22 U.S.C. 2651a and 5 U.S.C. 3111 (“Section 3111”), and delegated to me by Delegation of Authority 198, dated September 16, 1992, to the extent authorized by law and pursuant to subsection (b) of Section 3111, I hereby delegate the authority of the Secretary to accept voluntary services for the United States to the following Department officials:

• Assistant Secretary for the Bureau of Consular Affairs; and

• Legal Adviser.

This authority is limited to the acceptance of voluntary services provided by law students who are filling legal extern and intern positions.

Any official action within the scope of this delegation taken prior to the effective date of this delegation, by officers in the positions named above, are hereby continued in effect, according to their terms, until modified, revoked, or superseded by authorized action.

Notwithstanding this delegation of authority, the Secretary, the Deputy Secretary, the Deputy Secretary for Management and Resources, and the Under Secretary of State for Management may at any time exercise the authority herein delegated.

This delegation of authority will be published in the Federal Register.

Dated: May 20, 2014.
Patrick F. Kennedy,
Under Secretary of State for Management.

[FR Doc. 2014-14483 Filed 6-19-14; 8:45 am]

BILLING CODE 4710-08-P